DEPARTMENT OF THE INTERIOR

Bureau of Land Management

[LLOR932000.L10200000.PH0000; HAG-12-0218]

Call for Nominations for Advisory Groups, Oregon/Washington

AGENCY: Bureau of Land Management, Interior.

ACTION: Notice.

SUMMARY: The Secretary of the Department of the Interior requests public nominations for persons to serve on Oregon/Washington Bureau of Land Management (BLM) Resource Advisory Councils and the Steens Mountain Advisory Council. Citizens who serve on these groups provide advice and recommendations to the BLM on land use planning and management of the National System of Public Lands within their geographic areas and management options for a specific National Landscape Conservation System site. The BLM will accept public nominations for 30 days after the publication of this notice.

DATES: Submit nomination packages on or before September 4, 2012.

ADDRESSES: BLM Oregon State Office; 333 Southwest 1st Avenue; Portland, Oregon 97204. Nomination forms are also available at the Burns, Lakeview, Prineville, Spokane, and Vale District Offices.

FOR FURTHER INFORMATION CONTACT: Matt Christenson, BLM Oregon State Office, 333 Southwest 1st Avenue; Portland, Oregon 97204, or P. O. Box 2965, Portland, Oregon 97208; 503-808-6035 or m1christ@blm.gov.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Section 309 of the Federal Land Policy and Management Act (FLPMA) directs the Secretary to establish citizen-based advisory councils that are consistent with the Federal Advisory Committee Act (FACA). As required by FACA, council membership must be balanced and representative of the various interests concerned with the management of public lands. The rules governing advisory committees are found at 43 CFR subpart 1784.

Regional Resource Advisory Councils (RAC) seek nominations in three categories:

Category One—Holders of Federal grazing permits, representatives of organizations associated with energy and mineral development, timber industry, developed outdoor recreation, off-highway vehicle use, and commercial recreation;

Category Two—Representatives of nationally or regionally recognized environmental organizations; archaeological and historic organizations, dispersed recreation activities, and wild horse and burro organizations; and

Category Three—Representatives of State, county, or local elected office; representatives and employees of a State agency responsible for management of natural resources; representatives of Indian tribes within or adjacent to the area for which the council is organized; representatives of academia who are employed in natural sciences; and the public-at-large.

The Steens Mountain Advisory Council seeks a member of the Burns Paiute Tribe and a person with expertise and interest in wild horse management on Steens Mountain. Individuals may nominate themselves or others. Nominees must be residents of the State or region in which the council has jurisdiction. The BLM will evaluate nominees based on their education, training, experience, and knowledge of the geographical area of the council. Nominees should demonstrate a commitment to collaborative resource decision-making. The Obama Administration prohibits individuals who are currently federally registered lobbyists to serve on all FACA and non-FACA boards, committees, or councils. All nominations must include: (1) Letters of reference from the stakeholder interest area to be represented; (2) A completed background information nomination form; and (3) Other information that addresses the nominee's qualifications. If you have already submitted your nomination materials for 2012 you will not need to resubmit. The BLM Oregon State Office will issue press releases providing additional information for submitting nominations, with specifics about the number and categories of member positions available for each council. Nominations should be sent to: Matt Christenson, Oregon State Office, BLM, 333 SW. First Avenue, Portland, Oregon 97204, 503-808-6035.

Certification Statement: I hereby certify that the BLM advisory committees are necessary and in the public interest in connection with the Secretary's responsibilities to manage the lands, resources, and facilities administered by the BLM.

Jody L. Weil,
Acting Associate State Director, Oregon/Washington.

[FR Doc. 2012-18896 Filed 8-1-12; 8:45 am]

BILLING CODE 4310-33-P